DEPARTMENT OF THE TREASURY

Submission for OMB Review; Comment Request

September 19, 2008.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before October 27, 2008 to be assured of consideration.

Alcohol and Tobacco Tax and Trade Bureau (TTB)

OMB Number: 1513-0119.

Type of Review: Extension.

Title: Certification of Proper Cellar Treatment for Imported Natural Wine.

Description: TTB is requiring importers of natural wine to certify compliance with proper cellar treatment standards. This certification is necessary to comply with statutory requirements.

Respondents: Businesses or other for-profit institutions.

Estimated Total Burden Hours: 6,600 hours.

OMB Number: 1513-0092.

Type of Review: Extension.

Title: Marks on Wine Containers, TTB REC 5120/3.

Description: TTB requires that wine on wine premises be identified by statements of information on labels or contained in marks. TTB uses this information to validate the receipts of excise tax revenue by the Federal government.

Respondents: Businesses or other for-profit institutions.

Estimated Total Burden Hours: 1 hour.

Clearance Officer: Frank Foote (202) 927-9347, Alcohol and Tobacco Tax and Trade Bureau, Room 200 East, 1310 G Street, NW., Washington, DC 20005.

OMB Reviewer: Alexander T. Hunt (202) 395-7316, Office of Management and Budget, Room 10235, New Executive Office Building, Washington, DC 20503.

Robert Dahl,
Treasury PRA Clearance Officer.

[FR Doc. E8-22647 Filed 9-25-08; 8:45 am]

BILLING CODE 4810-31-P